DEPARTMENT OF THE INTERIOR

National Park Service

Notice of Inventory Completion: Saint Martin's Waynick Museum, Lacey, WA

AGENCY: National Park Service, Interior.

ACTION: Notice.

Notice is here given in accordance with the Native American Graves Protection and Repatriation Act (NAGPRA), 25 U.S.C. 3003, of the completion of an inventory of human remains in the possession of the Saint Martin's Waynick Museum, Lacey, WA. The human remains were removed from King County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Saint Martin's Waynick Museum professional staff in consultation with representatives of the Puyallup Tribe of the Puyallup Reservation, Washington.

In 1938, human remains representing a minimum of two individuals were removed from a cist burial mound on Vashon-Maury Island, King County, WA, by Lynne “Black Eagle” Waynick. Mr. Waynick later donated the human remains to the Saint Martin's Waynick Museum. The human remains were found in the museum's collection in 2003. No known individuals were identified. No associated funerary objects are present.

The morphology of the human remains is consistent with that of Native American populations. Archeological and historical documentation identifies Vashon-Maury Island as a site of several Puyallup villages at or before the signing of the Medicine Creek Treaty of 1854. The Vashon-Maury Island is located in the historically documented traditional territory of the Puyallup tribe. Descendants of the Puyallup are members of the Puyallup Tribe of the Puyallup Reservation, Washington.

Officials of Saint Martin's Waynick Museum have determined that to the best of their ability, pursuant to 25 U.S.C. 3001 (9-10), the human remains described above represent the physical remains of two individuals of Native American ancestry. Officials of Saint Martin's Waynick Museum also have determined that, pursuant to 25 U.S.C. 3001 (2), there is a relationship of shared group identity that can be reasonably traced between the Native American human remains and the Puyallup Tribe of the Puyallup Reservation, Washington.

Representatives of any other Indian tribe that believes itself to be culturally affiliated with the human remains should contact Brother Luke Devine, Curator, Saint Martin's Waynick Museum, 5300 Pacific Avenue SE, Lacey, WA 98503, telephone (360) 438-4458, before March 24, 2006. Repatriation of the human remains to the Puyallup Tribe of the Puyallup Reservation, Washington may proceed after that date if no additional claimants come forward.

Saint Martin's Waynick Museum is responsible for notifying the Puyallup Tribe of the Puyallup Reservation, Washington that this notice has been published.

Dated: February 9, 2006.
Sherry Hutt,
Manager, National NAGPRA Program.

[FR Doc. E6-2448 Filed 2-21-06; 8:45 am]

BILLING CODE 4312-50-S